DEPARTMENT OF LABOR

Mine Safety and Health Administration

Summary of Decisions Granting in Whole or In-Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term “FR Notice” appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2352, Arlington, Virginia 22209. Contact Barbara Barron at 202-693-9447.

Dated at Arlington, Virginia this 12th day of September 2003.
Marvin W. Nichols, Jr.,
Director, Office of Standards, Regulations, and Variances.

Affirmative Decisions on Petitions for Modification

Docket No.: M-2001-109-C.

FR Notice: 66 FR 67550.

Petitioner: Elk Run Coal Company, Inc.

Regulation Affected: 30 CFR 75.364(b)(2).

Summary of Findings: Petitioner's proposal is to conduct weekly evaluations in certain areas of the return air course to measure the quantity and quality of air at 3 monitoring stations using hand-held gas detection devices and anemometers due to severe deterioration and roof falls. The petitioner asserts that conducting weekly examinations by traveling the affected area in its entirety would be unsafe and would cause a diminution of safety to the examiner. This is considered an acceptable alternative method for the Black King I North Portal. MSHA grants the petition for modification for the unsafe-to-travel segment (approximately 4,750 feet) of the South Mains return entries to outcrop for the Black King I North Portal with conditions.

Docket No.: M-2001-124-C.

FR Notice: 67 FR 6754.

Petitioner: Warrior Coal, LLC.

Regulation Affected: 30 CFR 75.350.

Summary of Findings: Petitioner's proposal is to use belt air to ventilate working faces and use the same monitoring system to identify the location of a detected fire by sensor location rather than by belt flight. This is considered an acceptable alternative method for the Cardinal Mine. MSHA grants the petition for modification to allow air coursed through conveyor belt haulage entries to be used to ventilate active working places for the Cardinal Mine with conditions.

Docket No.: M-2002-011-C.

FR Notice: 67 FR 13197.

Petitioner: Hobet Mining, Inc.

Regulation Affected: 30 CFR 77.206(c).

Summary of Findings: Petitioner's proposal is to use a SAF-T-CLIMB fall prevention system on its counterweight tower structure for the overland system and the Beth Station No. 9 Preparation Plant in lieu of using a vertical ladder. This is considered an acceptable alternative method for the Beth Station No. 79 Preparation Plant. MSHA grants the petition for modification for the use of SAF-T-CLIMB or other equivalent fall prevention system at every permanently attached vertical ladder used at counterweight towers during maintenance work on the overland conveyor system for use at the Beth Station No. 79 Preparation Plant with conditions.

Docket No.: M-2002-053-C.

FR Notice: 67 FR 49966.

Petitioner: Perry County Coal Corporation.

Regulation Affected: 30 CFR 75.364(b)(1).

Summary of Findings: Petitioner's proposal is to relocate approved check points 9A and 9B in the intake of the Southeast Mains one break outby the No. 9 entry of the Roll Mains and establish one new check point (examination point) 10A in the return of the Southeast Mains in the No. 1 Entry located at the 44 Seals, six break inby the No. 1 Head Drive. The petitioner proposes to establish air measurement stations at locations that would allow effective evaluation of ventilation in the areas affected by deteriorating roof and rib conditions and have a certified person evaluate these stations on a weekly basis. The petitioner requested a modification of existing standard 30 CFR 75.364(b)(2). After further review of this petition, it was determined that modification should be for existing standard 30 CFR 75.364(b)(1). This is considered an acceptable alternative method for the HZ4-1 Mine. MSHA grants the petition for modification for use at the HZ4-1 Mine with conditions.

Docket No.: M-2002-054-C.

FR Notice: 67 FR 49966.

Petitioner: Titan Mining, Inc.

Regulation Affected: 30 CFR 75.503 (18.41(f) of Part 18).

Summary of Findings: Petitioner's proposal is to use a spring-loaded locking device with specific fastening characteristics in lieu of a padlock to secure plugs and electrical type connectors to batteries and to the permissible mobile powered equipment the batteries serve, to prevent accidental separation of the battery plugs from their receptacles during normal operation of the battery equipment. This is considered an acceptable alternative method for the Laurel Fork Deep Mine. MSHA grants the petition for modification for use at the Laurel Fork Deep Mine with conditions.

Docket No.: M-2002-062-C.

FR Notice: 67 FR 54675.

Petitioner: Buck Mountain Coal Company.

Regulation Affected: 30 CFR 75.1002(a).

Summary of Findings: Petitioner's proposal is to use non-permissible electric equipment within 150 feet of the pillar line. This equipment would include drags and battery locomotives due in part to the method of mining used in pitching anthracite mines and the alternative evaluation of the mine air quality for methane on an hourly basis during operation. This is considered an acceptable alternative method for the Buck Mountain Slope Mine. MSHA grants the petition for modification for the Buck Mountain Slope Mine with conditions.

Docket No.: M-2002-072-C.

FR Notice: 67 FR 59317.

Petitioner: Snyder Coal Company.

Regulation Affected: 30 CFR 75.1002(a).

Summary of Findings: Petitioner's proposal is to use non-permissible electric equipment within 150 feet of the pillar line. This equipment would include drags and battery locomotives due in part to the method of mining used in pitching anthracite mines and the alternative evaluation of the mine air quality for methane on an hourly basis during operation. This is considered an acceptable alternative method for the Rattling Run Slope Mine. MSHA grants the petition for modification for the Rattling Run Slope Mine with conditions.

Docket No.: M-2002-082-C.

FR Notice: 67 FR 66168.

Petitioner: Speed Mining, Inc.

Regulation Affected: 30 CFR 75.1700.

Summary of Findings: Petitioner's proposal is to amend its previous petition docket number M-2001-041-C. The petitioner proposes to drill out each of the oil wells as already specified in its previous petition; pump the expandable cement to the bottom of the lowest minable seam (Eagle) and pump Portable Class “A” cement on top of the expandable plug to the next Powellton Seam which is approximately 117 feet above, and is the anticipated area for broken strata due to subsidence. The petitioner will leave the area from the Powellton Seam to the surface open for release of methane from the longwall gob after the longwall has intersected the well. This is considered an acceptable alternative method for the American Eagle Mine. MSHA grants the petition for modification for mining through or near (whenever the safety barrier diameter is reduced to a distance less than the District Manager would approve pursuant to Section 75.1700) plugged oil or gas wells penetrating the Eagle Coal Seam and other minable coal seams using continuous miners, conventional mining or longwall mining methods at the American Eagle Mine with conditions.

Docket No.: M-2002-092-C.

FR Notice: 67 FR 71988.

Petitioner: Mountain Side Coal Company.

Regulation Affected: 30 CFR 49.2(b).

Summary of Findings: Petitioner's proposal is to provide two mine rescue teams, each consisting of three members and one alternate to provide coverage for both teams at the Mountain Side Mine. The petitioner will provide a total of seven mine rescue team members. This is considered an acceptable alternative method for the Mountain Side Mine. MSHA grants the petition for modification for the Mountain Side Mine with conditions.

Docket No.: M-2002-093-C.

FR Notice: 67 FR 71988.

Petitioner: Mountain Side Coal Company.

Regulation Affected: 30 CFR 75.335(a)(1).

Summary of Findings: Petitioner's proposal is to use wooden materials of moderate size and weight due to the difficulty in accessing previously driven headings and breasts containing inaccessible abandoned workings; to accept a design criteria in the 10 psi range; and to permit the water trap to be installed in the gangway seal and sampling tube in the monkey seal for seals installed in pairs. This is considered an acceptable alternative method for the Mountain Side Mine. MSHA grants the petition for modification for seals installed in the Mountain Side Mine with conditions.

Docket No.: M-2002-094-C.

FR Notice: 67 FR 71988.

Petitioner: Mountain Side Coal Company.

Regulation Affected: 30 CFR 75.1100-2(a)(2).

Summary of Findings: Petitioner's proposal is to use only portable fire extinguishers to replace existing requirements where rock dust, water cars, and other water storage equipped with three (3) ten quart pails is not practical, and to use two (2) portable fire extinguishers near the slope bottom and an additional portable fire extinguisher within 500 feet of the working for equivalent fire protection. This is considered an acceptable alternative method for the Mountain Side Mine. MSHA grants the petition for modification for firefighting equipment in the working section at the Mountain Side Mine with conditions.

Docket No.: M-2002-098-C.

FR Notice: 67 FR 71989.

Petitioner: Mountain Side Coal Company.

Regulation Affected: 30 CFR 75.1400.

Summary of Findings: Petitioner's proposal is to use a slope conveyance (gunboat) for transporting persons without installing safety catches or other no less effective devices. The petitioner instead proposes to use increased rope strength and secondary safety rope connections in place of such devices. This is considered an acceptable alternative method for the Mountain Side Mine. MSHA grants the petition for modification for use of the hoist conveyance (gunboat) without safety catches at the Mountain Side Mine with conditions.

Docket No.: M-2002-113-C.

FR Notice: 68 FR 1484.

Petitioner: Monterey Coal Company.

Regulation Affected: 30 CFR 75.350.

Summary of Findings: Petitioner's proposal is to use belt air to ventilate working places from a location inby the furthest inby conveyor drive for the remaining length of the panels. The petitioner proposes to install a carbon monoxide monitoring system as an early warning fire detection system in all belt entries used to course intake air to a working place. This is considered an acceptable alternative method for the No. 1 Mine. MSHA grants the petition for modification to allow air coursed through conveyor belt haulage entries to be used to ventilate active working places in longwall development sections and in retreating longwall panels, from a location inby the furthest inby conveyor drive for the remaining length of the development section or retreating panel for the No. 1 Mine with conditions.

Docket No.: M-2002-117-C.

FR Notice: 68 FR 1485.

Petitioner: Energy West Mining Company.

Regulation Affected: 30 CFR 75.901(a).

Summary of Findings: Petitioner's proposal is to request a modification of the standard to allow the electrical grounding requirements for portable diesel-driven electric generators to be waived based on the use of ground fault detection, ground wire monitoring, and other circuit protection means, such as short circuit, over-current and undervoltage protection. This is considered an acceptable alternative method for the Deer Creek Mine. MSHA grants the petition for modification for use of the 200 KW/250 KVA, 480-volt, diesel powered generator (DPG) set to supply power to three-phase 480-volt and 995-volt power circuits to move mobile equipment around the mine and to provide temporary power to mobile equipment and pumps in outby locations for the Deer Creek Mine with conditions.

Docket No.: M-2002-119-C.

FR Notice: 68 FR 1485.

Petitioner: H & M Coal Company.

Regulation Affected: 30 CFR 49.2(b).

Summary of Findings: Petitioner's proposal is to provide two mine rescue teams, each consisting of three members and one alternate to provide coverage for both teams at the Rocky Top Mine. The petitioner will provide a total of seven mine rescue team members. This is considered an acceptable alternative method for the Rocky Top Mine. MSHA grants the petition for modification for the Rocky Top Mine with conditions.

Docket No.: M-2002-120-C.

FR Notice: 68 FR 1485.

Petitioner: H & M Coal Company.

Regulation Affected: 30 CFR 75.1100-2(a).

Summary of Findings: Petitioner's proposal to use portable fire extinguishers only to replace existing requirements where rock dust, water cars, and other water storage equipped with three (3) ten quart pails is not practical. The petitioner proposes to use two (2) portable fire extinguishers near the slope bottom, and an additional portable fire extinguisher within 500 feet of the working face for equivalent fire protection for the Rocky Top Mine. This is considered an acceptable alternative method for the Rocky Top Mine. MSHA grants the petition for modification for firefighting equipment in the working section at the Rocky Top Mine with conditions.

Docket No.: M-2002-121-C.

FR Notice: 68 FR 1485.

Petitioner: H & M Coal Company.

Regulation Affected: 30 CFR 75.1200(d) and (i).

Summary of Findings: Petitioner's proposal is to use cross-sections instead of contour lines through the intake slope, at locations of rock tunnel connections between veins, and at 1,000 foot intervals of advance from the intake slope. The petitioner also proposes to limit the required mapping of the mine workings above and below to those present within 100 feet of the vein being mined except those veins that are interconnected to other veins beyond the 100-foot limit through rock tunnels. This is considered an acceptable alternative method for the Rocky Top Mine. MSHA grants the petition for modification for use at the Rocky Top Mine with conditions.

Docket No.: M-2002-122-C.

FR Notice: 68 FR 1486.

Petitioner: H & M Coal Company.

Regulation Affected: 30 CFR 75.1202 and 30 CFR 75.1202-1(a).

Summary of Findings: Petitioner's proposal is to revise and supplement mine maps annually instead of every 6 months as required, and to update maps daily by hand notations. This is considered an acceptable alternative method for the Rocky Top Mine. MSHA grants the petition for modification for annual revisions and supplements of the mine map at the Rocky Top Mine with conditions.

Docket No.: M-2002-123-C.

FR Notice: 68 FR 3897.

Petitioner: Double M Mining, Inc.

Regulation Affected: 30 CFR 77.214(a).

Summary of Findings: Petitioner's proposal is to cover the coal seam with inert material, backfill and eliminate the highwall with refuse on a 2 to 1 slope and cover with soil in order to reclaim the site where face up and the adjacent areas of the mine have been augered and now needs to be reclaimed. This is considered an acceptable alternative method for the Auger #2 Mine. MSHA grants the petition for modification for the Auger #2 Mine with conditions.

Docket No.: M-2003-002-C.

FR Notice: 68 FR 3898.

Petitioner: KenAmerican Resources, Inc.

Regulation Affected: 30 CFR 75.1909(b)(6).

Summary of Findings: Petitioner's proposal is to limit the speed of its diesel graders to 20 miles per hour (mph), and train the grader operators in the proper techniques for lowering the blade to provide additional stopping capability in emergency situations, in lieu of using front wheel brakes on the DAPCO, Serial No. 001 grader powered by a Deutz diesel engine Model #BF4M1012EC. The grader(s) has six wheels and are used at the Paradise No. 9 Mine. This is considered an acceptable alternative method for the Paradise No. 9 Mine. MSHA grants the petition for modification for use at the Paradise No. 9 Mine with conditions.

Docket No.: M-2003-008-C.

FR Notice: 68 FR 8050.

Petitioner: Ken American Resources, Inc.

Regulation Affected: 30 CFR 75.519-1(b).

Summary of Findings: Petitioner's proposal is to move its disconnecting switch to the main travelway in the 2nd crosscut from the slope bottom in lieu of installing a disconnecting switch underground within 500 feet of the bottom of the borehole. This is considered an acceptable alternative method for the Paradise No. 9 Mine. MSHA grants the petition for modification for the distance of the disconnecting switch from the bottom of the shaft or borehole for use at the Paradise No. 9 Mine with conditions.

Docket No.: M-2003-009-C.

FR Notice: 68 FR 8050.

Petitioner: Alfred Brown Coal Company.

Regulation Affected: 30 CFR 49.2(b).

Summary of Findings: Petitioner's proposal is to provide two mine rescue teams, each consisting of three members and one alternate to provide coverage for both teams at the 7 Ft. Slope Mine. The petitioner will provide a total of seven mine rescue team members. This is considered an acceptable alternative method for the 7 Ft. Slope Mine. MSHA grants the petition for modification for the 7 Ft. Slope Mine with conditions.

Docket No.: M-2003-010-C.

FR Notice: 68 FR 10048.

Petitioner: Jim Walter Resources, Inc.

Regulation Affected: 30 CFR 75.1002.

Summary of Findings: Petitioner's proposal is to use a 2,400-volt power center with a high-voltage trailing cable to power a continuous miner inby the last open crosscut and within 150 feet of pillar workings. This is considered an acceptable alternative method for the No. 7 Mine. MSHA grants the petition for modification for use of the 2,400-volt high-voltage continuous miner(s) at the No. 7 Mine with conditions.

Docket No.: M-2003-014-C.

FR Notice: 68 FR 15244.

Petitioner: Lodestar Energy Incorporated.

Regulation Affected: 30 CFR 75.1101-1(b).

Summary of Findings: Petitioner's proposal is to have a trained person conduct a weekly visual examination and a functional test on each deluge-type fire suppression system installed at conveyor belt drives in lieu of using blow-off dust covers for nozzles. The petitioner proposes to actuate the water system and observe its performance to ensure that nozzles are not blocked. This is considered an acceptable alternative method for the Baker Mine. MSHA grants the petition for modification for the Baker Mine with conditions.

Docket No.: M-2003-019-C.

FR Notice: 68 FR 15245.

Petitioner: Maple Creek Mining, Inc.

Regulation Affected: 30 CFR 75.1400(e).

Summary of Findings: Petitioner's proposal is to use an electric slope hoist to transport miners in and out of the mine. This is considered an acceptable alternative method for the High Quality Mine. On April 8, 2003, MSHA grants the petition for modification for a period ending twelve months from the effective date of the Proposed Decision and Order for the High Quality Mine with conditions. MSHA grants Application for Relief to Give Effect to April 7, 2003.

Docket No.: M-2003-020-C.

FR Notice: 68 FR 15245.

Petitioner: Highland Mining Company.

Regulation Affected: 30 CFR 75.1909(b)(6).

Summary of Findings: Petitioner's proposal is to use a Getman diesel grader underground with only rear wheel brakes at the Highland 9 Mine in lieu of using front wheel brakes. The petitioner proposes to limit the diesel grader speed to a maximum of 10 miles per hour and train the operators on proper procedures to use if the brakes on the grader fail. This is considered an acceptable alternative method for the Highland 9 Mine. MSHA grants the petition for modification for the Getman RDG-1504S Diesel Road Grader, Serial No. 6323, Powered by a Cat 3306PCNA 150 Horsepower diesel engine with 6 wheels for use at the Highland 9 Mine with conditions.

Docket No.: M-2003-021-C.

FR Notice: 68 FR 16311.

Petitioner: HB Coal Company, Inc.

Regulation Affected: 30 CFR 75.342.

Summary of Findings: Petitioner's proposal is to use a hand-held continuous multi-gas detector, which detects oxygen, methane, and carbon monoxide for the three wheel tractors (Mescher tractors) in lieu of using a machine-mounted methane monitor. This is considered an acceptable alternative method for the No. 1 Mine. MSHA grants the petition for modification for the Mescher permissible three-wheel battery-powered tractors used to load coal at the No. 1 Mine with conditions.

Docket No.: M-2003-022-C.

FR Notice: 68 FR 16311.

Petitioner: HB Coal Company, Inc.

Regulation Affected: 30 CFR 75.380(f)(4)(i).

Summary of Findings: Petitioner's proposal is to use two ten-pound portable chemical fire extinguishers in the operator's deck of each Mescher tractor operated at the No. 1 Mine. The petitioner also proposes to instruct the equipment operator to inspect each fire extinguisher on a daily basis prior to entering the primary escapeway and maintain a record of the daily inspection at the mine. The petitioner further proposes to maintain a sufficient number of spare fire extinguishers at the mine in case a defective fire extinguisher is detected. This is considered an acceptable alternative method for the No. 1 Mine. MSHA grants the petition for modification for the Mescher three wheel tractors to be operated in the primary intake escapeway at the No. 1 Mine with conditions.

[FR Doc. 03-23910 Filed 9-18-03; 8:45 am]

BILLING CODE 4510-43-P